DEPARTMENT OF HOUSING AND URBAN DEVELOPMENT

[Docket No. FR-7050-N-29; OMB Control No.: 2528-NEW]

30-Day Notice of Proposed Information Collection: Stepped and Tiered Rent Demonstration Evaluation

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: July 29, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; mail to: Colette.Pollard@hud.gov; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on November 24, 2021, at 86 FR 67076.

A. Overview of Information Collection

Title of Information Collection: Stepped and Tiered Rent Demonstration Evaluation.

OMB Approval Number: 2528-New.

Type of Request: New collection.

Form Number: N/A.

Description of the need for the information and proposed use: HUD has selected 10 Public Housing Agencies (PHAs) to participate in the second cohort of the Moving to Work (MTW) Expansion, Stepped and Tiered Rent Demonstration (STRD). These PHAs will implement an alternative rent policy (a stepped rent or tiered rent) that is intended to reduce PHA administrative burden and increase self-sufficiency of assisted households. Five PHAs will implement a stepped rent and five PHAs will implement a tiered rent. HUD's Office of Policy Development and Research (PD&R) will evaluate the impacts of those alternative rent policies, using a randomized controlled trial. The evaluation will rely on data from a variety of sources, including new information collection efforts proposed in this Notice. HUD has contracted with MDRC to conduct the first phase of the evaluation, including random assignment, baseline data collection, and monitoring PHA implementation.

Within the 10 participating PHAs, eligible households will be randomly assigned to have their rent calculated under the new rules (stepped/tiered rent) or old rules (the Brooke rent, typically 30% of household income). Eligible households will be non-elderly, non-disabled participants in the public housing and housing choice voucher program. Prior to random assignment, each household will be asked to complete a baseline information form (BIF) and provide informed consent to authorize HUD's evaluator to use their data for the evaluation. The BIF will provide important information not otherwise available from HUD's administrative data, such as whether the household has significant barriers to employment. The BIF will average approximately 7 minutes long.

MDRC will also conduct interviews with staff from participating PHAs, to better understand their experience implementing the new rent policies. For the first phase of the evaluation, MDRC is expected to conduct two rounds of staff interviews with each PHA. This collection request focuses on the first of the two rounds of staff data collection. During the first round, MDRC expects to interview up to ten staff per PHA (reflecting a mix of executive management staff, public housing and HCV directors, and public housing and HCV specialists). The mode will be a mix of one-on-one interviews and group interviews, with small groups of 2-3 staff performing similar roles.

Information collection | Number of respondents | Frequency of response | Responses per annum | Burden hour per response | Annual burden hours | Hourly cost per response | Annual cost
Baseline Information Form (household survey) (Attachment A) | 24,000 | 1 | 24,000 | .12 | 2,880 | $9.43 | $27,158.40
Stepped Rent Informed Consent Form (Attachment B.1) | 7,000 | 1 | 7,000 | .18 | 1,260 | 9.43 | 11,881.80
Tiered Rent Informed Consent Form (Attachment B.2) | 17,000 | 1 | 17,000 | .18 | 3,060 | 9.43 | 28,855.80
PHA Executive Director-Senior Leader Interview Guide (Attachment C) | 10 | 1 | 10 | .75 | 7.5 | 59.86 | 448.95
PHA Program Director Interview Guide (Attachment D) | 20 | 1 | 20 | 1.5 | 30 | 44.24 | 1,327.20
PHA MTW Coordinator Interview Guide (Attachment E) | 10 | 1 | 10 | .75 | 7.5 | 44.24 | 331.80
PHA Housing Specialist Interview Guide (Attachment F) | 60 | 1 | 60 | 1.5 | 90 | 25.64 | 2,307.60
Rent Policy Implementation Data Tracking Tool (Attachment G) | 10 | 1 | 10 | 9 | 90 | 25.64 | 2,307.60
Total | 48,110 |  |  |  | 7,425 |  | 74,619.15

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Data Officer.

[FR Doc. 2022-13926 Filed 6-28-22; 8:45 am]

BILLING CODE 4210-67-P